DEPARTMENT OF COMMERCE

International Trade Administration

Exporters' Textile Advisory Committee; Notice of Open Meeting

The Exporters' Textile Advisory Committee (ETAC) will meet on November 30, 2005. The meeting will be held from 10 a.m. to 2 p.m. at TC2, 211 Gregson Drive, Cary, North Carolina.

The Committee advises Department officials on the identification of and surmounting of barriers to the expansion of textile exports, and on methods of encouraging textile firms to increase their exports and to participate in export expansion activities.

Agenda: Conditions in the export market place, CAFTA-DR discussion, Office of Textiles and Apparel export expansion activities, and other business.

The meeting will be open to the public with a limited number of seats available. For further information call Rachel Anne Alarid at (202) 482-5154.

October 13, 2005.

D. Michael Hutchinson,
Acting Chairman, Committee for Implementation of Textile Agreements.

[FR Doc. E5-5736 Filed 10-17-05; 8:45 am]

BILLING CODE 3510-DS-S